DEPARTMENT OF AGRICULTURE

Submission for OMB Review; Comment Request

August 12, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Foreign Travel Proposal (Non-Federal).

OMB Control Number: 0596-NEW.

Summary of Collection: Forest Service (FS) is seeking approval to collect information from non-federally employed individuals who are traveling outside the United States on behalf or at the request of the FS. The collection of this information is necessary to facilitate timely issuance of foreign travel authorizations. This information is shared with the USDA Foreign Agriculture Service; U.S. State Department; foreign embassies in Washington, DC; and U.S. embassies in all destination countries.

Need and Use of the Information: The FS, USDA, International Programs Travel Section uses FS-6500-1, Foreign Travel Proposal to collect the traveler's destination, purpose of trip, and dates of travel. Also collected are name, address, contact telephone numbers, passport information, security clearance, as well as contacts at each destination and hotel information. Without this information the FS cannot provide support to international programs or other countries who have requested assistance.

Description of Respondents: Individuals or households.

Number of Respondents: 25.

Frequency of Responses: Reporting: Annually.

Total Burden Hours: 7.

Forest Service

Title: Federal Excess Personal Property.

OMB Control Number: 0596-NEW.

Summary of Collection: The Federal Property Services and Administrative Assistance Act of 1949 and the Cooperative Forestry Assistance Act of 1978, as amended, authorize the Forest Service (FS) to loan federally owned property to state cooperators to use in fighting fires and providing emergency services. The Federal Excess Personal Property (FEPP) program administers the loan FS Fire and Aviation Management fire-control stock to states. The FEPP program will provide FS officials with updated information on the condition of property loaned to state and territory cooperators. FS property management technicians will collect the information from the Forest Service Federal Excess Property Management Information System (FEPMIS) database and enter it into a National Finance Center database (PROP), as required by Federal Property Management Regulations.

Need and Use of the Information: State agencies will use the FEPMIS database to submit information regarding property details, including manufacturer, model, year of manufacture, acquisition date when an item is acquired or no longer needed, acquisition value, Federal property identification number, serial number, condition of property, and the location of property and user of property. The database will also allow FS to manage inventory. Access to the database is limited to those with access authorized by FS Management Officers working in the Fire and Aviation staff.

Description of Respondents: State, Local or Tribal Government.

Number of Respondents: 200.

Frequency of Responses: Reporting: On occasion; Recordkeeping.

Total Burden Hours: 7,065.

Charlene Parker,
Departmental Information Collection Clearance Officer.

[FR Doc. E8-18928 Filed 8-14-08; 8:45 am]

BILLING CODE 3410-11-P